DEPARTMENT OF TRANSPORTATION

Maritime Administration

Voluntary Intermodal Sealift Agreement (VISA)/Joint Planning Advisory Group (JPAG)

AGENCY: Maritime Administration, DOT.

ACTION: Synopsis of August 21-24, 2007 Meeting with VISA Participants

The VISA program requires that a notice of the time, place, and nature of each JPAG meeting be published in the Federal Register. The full text of the VISA program, including these requirements, is published in 70 FR 55947-55955, dated September 23, 2005.

On August 21-24, 2007, the Maritime Administration and the U.S. Transportation Command co-hosted a JPAG meeting at the U.S. Transportation Command, Scott Air Force Base, Illinois. Meeting attendance was by invitation only, due to the nature of the information discussed and the need for a government-issued security clearance. Of the 52 U.S.-flag carrier corporate participants enrolled in the VISA program, 18 companies and one representative from maritime labor participated in the JPAG meeting. In addition, representatives from the Maritime Administration and the Department of Defense (DOD) attended the meeting.

Margaret Leclaire, Deputy Director Strategy, Plans, Policy & Programs, U.S. Transportation Command, and James Caponiti, Associate Administrator for National Security, Maritime Administration, welcomed the participants. Ms. Leclaire thanked the industry participants for their continued support. She remarked that she was pleased with the large number of attendees at the JPAG meeting. Ms Leclaire noted that this JPAG was a follow-up to previous JPAG exercises including a table-top exercise conducted in July 2006. This exercise, she noted, was designed to go beyond the table-top exercise and test the industry's ability to respond to what might occur during a VISA activation. The results of the JPAG would be used to validate the VISA activation battlebook.

Mr. Caponiti remarked that the numerous assumptions in previous JPAG exercises did not always take into account events that could disrupt the industry's ability to meet DOD requirements. Assumptions in previous exercises were made to minimize disruption of commercial and military activities, which may not be the case in an actual VISA activation. He expressed a hope that this JPAG exercise would add realism to what actually could occur during VISA activation. Further, both Mr. Caponiti and Ms. Leclaire requested that participants document concerns and issues that would be required to improve the VISA activation process.

The purpose of the JPAG exercise was to review the processes of VISA activation using strategic sealift requirements to support two military contingencies simultaneously. The exercise also focused on the contractual processes required for VISA activation as well as the subsequent communications flow required to support the activation. The JPAG exercise was considered a success as industry participants were able to provide necessary capacity and resources to meet DOD requirements. However, the participants identified areas that needed clarity and further development to improve the VISA activation process. The Maritime Administration, U.S. Transportation Command and industry participants agreed to work on the issues identified in the JPAG exercise to assure that they are adequately addressed for the efficient coordination of VISA activation procedures and contractual processes.

The following VISA companies participated in the August 21-24, 2007 JPAG meeting: American President Lines, Ltd.; American Roll-On Roll-Off Carrier, LLC; American Shipping Group; APL Marine Services, Ltd.; APL Maritime Ltd; Central Gulf Lines, Inc.; Farrell Lines Incorporated; Fidelio Limited Partnership; Hapag-Lloyd USA, LLC; Horizon Lines, LLC; Liberty Global Logistics, LLC; Liberty Shipping Group Limited Partnership; Maersk Line, Limited; Pasha Hawaii Transport Lines LLC; Patriot Shipping, LLC; Patriot Titan, LLC; Sealift Inc. and Waterman Steamship Corporation.

Contact Person for Additional Information: Mr. Taylor E. Jones II, Director, Office of Sealift Support, (202) 366-2323.

Authority: 49 CFR 1.66.

By Order of the Maritime Administrator.
Dated: September 13, 2007.
Daron T. Threet,
Secretary, Maritime Administration.

[FR Doc. E7-18571 Filed 9-20-07; 8:45 am]

BILLING CODE 4910-81-P